ENVIRONMENTAL PROTECTION AGENCY

[EPA-HQ-OW-2014-0350; FRL-9980-98-OEI]

Information Collection Request Submitted to OMB for Review and Approval; Comment Request; National Fish Program (Renewal)

AGENCY: Environmental Protection Agency (EPA).

ACTION: Notice.

SUMMARY: The Environmental Protection Agency (EPA) has submitted an information collection request (ICR)—National Fish Program (formerly referred to as the National Listing of Fish Advisories); EPA ICR Number 1959.06, OMB Control Number 2040-0226—to the Office of Management and Budget (OMB) for review and approval in accordance with the Paperwork Reduction Act. This is a proposed extension of the ICR, which is currently approved through July 31, 2018. Public comments were previously requested via the Federal Register on February 22, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before August 20, 2018.

ADDRESSES: Submit your comments, referencing Docket ID Number EPA-HQ-OW-2014-0350, to (1) EPA online using www.regulations.gov (our preferred method), by email to OW-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Samantha Fontenelle, Office of Science and Technology, Standards and Health Protection Division, Environmental Protection Agency, 1200 Pennsylvania Ave. NW, Washington, DC 20460; telephone number: (202) 566-2083; fax number: (202) 566-0409; email address: fontenelle.samantha@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In 1993, EPA began compiling information on fish advisories provided by the states in its biannual 305(b) Water Quality Inventory Reports. In 1994, EPA's Office of Water began conducting a voluntary annual Fish Program Survey to obtain the most up-to-date information on fish advisories. This information is collected under the authority of section 104 of the Clean Water Act, which provides for the collection of information to be used to protect human health and the environment. The advisory information collected identifies the waterbody under advisory, the fish or shellfish species and size ranges included in the advisory, the chemical contaminants and residue levels causing the advisory to be issued, the waterbody type (river, lake, estuary, coastal waters), and the target populations to whom the advisory is directed. The results of the survey are shared with states, territories, tribes, other federal agencies, and the public through an online database. The responses to the survey are voluntary and the information requested is part of the state/tribal public record associated with the advisories. No confidential business information is requested.

Form numbers: None.

Respondents/affected entities: Administrators of Public Health and Environmental Quality Programs in state and tribal governments (NAICS 92312/SIC 9431 and NAICS 92411/SIC 9511).

Respondent's obligation to respond: Voluntary, (Clean Water Act, Section 104).

Estimated number of respondents: 100 states, territories and tribes.

Frequency of response: Annual.

Total estimated burden: 2,468 hours (per year). Burden is defined at 5 CFR 1320.03(b).

Total estimated cost: $110,517.20 (per year), which includes no annualized capital or operation & maintenance costs.

Changes in the estimates: There is an increase of 584 hours in the total estimated respondent burden compared with the ICR currently approved by OMB. The increase is due to revised hourly burden estimates based on input from three states and the addition of two new activities to increase communication, engagement, information sharing and support between the EPA and the states, territories and tribes.

Courtney Kerwin,
Director, Regulatory Support Division.

[FR Doc. 2018-15516 Filed 7-19-18; 8:45 am]

BILLING CODE 6560-50-P